DEPARTMENT OF ENERGY

Federal Energy Regulatory Commission

[Docket No. ER01-2251-001]

New York Independent System Operator, Inc.; Notice of Filing

September 7, 2001.

Take notice that on August 28, 2001, the New York Independent System Operator, Inc. (NYISO) filed revisions to its Market Administration and Control Area Services Tariff in order to establish the criteria by which it will evaluate the need to reestablish Regulation penalties and to define factor Kpi, a factor used in the calculation of availability payments made to Suppliers of Regulation service, pursuant to the Commission's order issued on July 25, 2001, in the above-captioned docket.

The NYISO has requested an effective date of July 25, 2001, for the filing.

The NYISO has served a copy of this filing upon the parties on the official service lists maintained by the Commission for the above-captioned dockets.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 18, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23099 Filed 9-14-01; 8:45 am]

BILLING CODE 6717-01-P